ENVIRONMENTAL PROTECTION AGENCY

[FRL-7623-7]

Agreement and Covenant Not To Sue: Union Pacific Railroad Company

AGENCY: Environmental Protection Agency.

ACTION: Prospective Purchaser Agreement/Agreement and Covenant Not To Sue.

SUMMARY: As required by the Comprehensive Environmental Response, Compensation, and Liability Act of 1980, 42 U.S.C. 9601, et seq., as amended (CERCLA), and the Resource Conservation and Recovery Act, 42 U.S.C. 6901, et seq., as amended (RCRA), notice is hereby given that an Agreement and Covenant Not To Sue (“Agreement”) is proposed by the United States (“U.S.”) on behalf of the Environmental Protection Agency (“EPA”), the State of Colorado (“State”) on behalf of the Colorado Department of Public Health and Environment (“CDPHE”), and the Union Pacific Railroad Company (“Union Pacific”) (collectively the “Parties” and singularly “Party”). The following is a list of CERCLA and RCRA sites covered under the Agreement.

1. The Broderick Wood Products Site (“Broderick”) is located at 5800 Galapago Street in unincorporated Adams County, Colorado. Broderick consists of approximately 64 acres situated in a primarily industrial area and was operated by Broderick Wood Products Company as a wood treating facility from 1947 until 1982. The Broderick remediation is now managed by the Broderick Investment Company (“BIC”).

2. The Sand Creek Site (“Sand Creek”) is located at 52nd and Dahlia St., approximately 5 miles northeast of Denver, Colorado in a heavy industrial area. Sand Creek occupies about 550 acres. Sand Creek includes properties that are vacant, industrially developed, and former railroad right-of-ways owned by the Colorado and Eastern Railroad Company or recently transferred to NDSC LLC, subject to a Union Pacific option, and an active rail line and railroad right-of-way owned by the Denver Rock Island Railroad. Sand Creek was listed on the National Priorities List (NPL) in1982 and was deleted from the NPL in 1996.

3. The Chemical Sales Site (“Chemical Sales”) is located at 4661 Monaco Street in Denver, Colorado and covers approximately 5 square miles. Chemical Sales is located in a light industrial area of northeast Denver and was first developed in 1962 with construction of a warehouse. Operations have included the storage and repackaging of bulk chemicals. Chemical Sales was listed on the NPL in 1990.

4. The Woodbury Chemical Site (“Woodbury”) is located north of 54th Avenue between Harrison and Adams Streets in Commerce City, Colorado. This 15-acre site was operated by Woodbury Chemical Company as a pesticide production facility from the late 1950's until 1971. Remediation was completed in 1992, and Woodbury was deleted from the NPL in 1993.

5. The Koppers Site is an active industrial wood treating operation adjacent and is just east of Broderick. Soil and groundwater contamination has been identified and is being remediated by Koppers.

Union Pacific, a Delaware Corporation organized under the laws of the State of Delaware, with its principal offices at 1416 Dodge Street in Omaha, Nebraska, desires to acquire a perpetual easement or other property interest in the above-described Properties in order to establish a more direct east-west rail corridor through the north Denver area. The Parties agree to undertake all actions required by the terms and conditions of the Agreement and the Statement of Work. The purpose of the Agreement is to settle and resolve, subject to reservations and limitations, the potential liability of Union Pacific for the existing contamination at the Sites, which liability would otherwise result from Union Pacific becoming the owner of, or acquiring a property interest in, the Sites. In consideration of and exchange for the U.S. and the State's Covenant Not To Sue and Removal of Lien, Union Pacific agrees to pay for or perform the remedy repair and replacement work at the Sites and to reimburse EPA and CDPHE for their reasonable oversight costs incurred in the oversight of Union Pacific's performance of such work.

FOR FURTHER INFORMATION CONTACT: Richard Sisk, Legal Enforcement Attorney (ENF-L) Legal Enforcement Program, U.S. Environmental Protection Agency, 999 18th Street, Suite 300, Denver, Colorado 80202-2466, (303) 312-6638. Please contact Sharon Abendschan, Enforcement Specialist at (303) 312-6957 for requests for copies of the Agreement and/or repository location(s) where supporting documentation may be found and reviewed.

Dated: February 5, 2004.
Carol Rushin,
Assistant Regional Administrator, Office of Enforcement, Compliance and Environmental Justice, U.S. Environmental Protection Agency, Region VIII.

[FR Doc. 04-3367 Filed 2-13-04; 8:45 am]

BILLING CODE 6560-50-P